DEPARTMENT OF STATE

[Public Notice 4493]

Bureau of Nonproliferation; Imposition of Missile Proliferation Sanctions Against a Chinese Entity

AGENCY: Department of State.

ACTION: Notice.

SUMMARY: A determination has been made that a Chinese entity has engaged in missile technology proliferation activities that require imposition of sanctions pursuant to the Arms Export Control Act, as amended, and the Export Administration Act of 1979, as amended (as carried out under Executive Order 13222 of August 17, 2001).

EFFECTIVE DATE: September 19, 2003.

FOR FURTHER INFORMATION CONTACT: Vann H. Van Diepen, Office of Chemical, Biological and Missile Nonproliferation, Bureau of Nonproliferation, Department of State (202-647-1142).

SUPPLEMENTARY INFORMATION: Pursuant to Section 73(a)(1) of the Arms Export Control Act (22 U.S.C. 2797b(a)(1)); Section 11B(b)(1) of the Export Administration Act of 1979 (50 U.S.C. app. 2401b(b)(1)), as carried out under Executive Order 13222 if August 17, 2001 (hereinafter cited as the “Export Administration Act of 1979”); and Executive Order 12851 of June 11, 1993; a determination was made on August 29, 2003, that the following foreign person has engaged in missile technology proliferation activities that require the imposition of the sanctions described in Section 73(a)(2)(A) and (C) of the Arms Export Control Act (22 U.S.C. 2797b(a)(2)(A) and (C)) and Section 11B(b)(1)(B)(i) and (iii) of the Export Administration Act of 1979 (50 U.S.C. app. 2410b(b)(1)(B)(i) and (iii)) on the following entity and its sub-units and successors: China North Industries Corporation.

Accordingly, the following sanctions are imposed on this entity:

(A) New individual licenses for exports to the entity described above of MTCR Annex-controlled equipment or technology controlled pursuant to the Export Administration Act of 1979 will be denied for two years;

(B) New licenses for export to the entity described above of MTCR Annex-controlled equipment or technology controlled pursuant to the Arms Export Control Act will be denied for two years;

(C) No new United States Government contracts relating to MTCR Annex-controlled equipment or technology involving the entity described above will be entered into for two years; and

(D) The importation into the U.S. of products produced by the entity described above is prohibited for a period of two years.

With respect to items controlled pursuant to the Export Administration Act of 1979, the export sanction only applies to exports made pursuant to individual export licenses.

Additionally, because China is a country with a non-market economy that is not a former member of the Warsaw Pact (as referenced in the definition of “person” in section 74(a)(8)(B) of the Arms Export Control Act), the sanctions described in Section 73(a)(2)(A) and (C) of the Arms Export Control Act (22 U.S.C. 2797b(a)(2)(A) and (C)) are also applicable to all activities of the Chinese government relating to the development or production of any missile equipment or technology and all activities of the Chinese government affecting the development or production of electronics, space systems or equipment, and military aircraft.

However, a further determination was made on August 29, 2003, pursuant to section 73(e) of the Arms Export Control Act (22 U.S.C. 2797b(e)), that it is essential to the national security of the United States to waive for a period of one year from the date of publication of this notice the import sanction described in Section 73(a)(2)(C) of the Arms Export Control Act (22 U.S.C. 2797b(a)(2)(C)) to the extent that this sanction applies to activities described in section 74(a)(8)(B) of the Arms Export Control Act (22 U.S.C. 2797c(a)(8)(B))—i.e., activities of the Chinese government relating to the development or production of any missile equipment or technology and activities of the Chinese government affecting the development or production of electronics, space systems or equipment, and military aircraft.

Accordingly, the following sanctions are imposed on all activities of the Chinese government relating to the development or production of missile equipment or technology and all activities of the Chinese government affecting the development or production of electronics, space systems or equipment, and military aircraft:

(A) New licenses for export to the government activities described above of MTCR Annex-controlled equipment or technology controlled pursuant to the Arms Export Control Act will be denied for two years; and

(B) No new United States Government contracts relating to MTCR Annex-controlled equipment or technology involving the government activities described above will be entered into for two years.

These measures shall be implemented by the responsible agencies as provided in Executive Order 12851 of June 11, 1993.

Dated: September 12, 2003.
Susan F. Burk,
Acting Assistant Secretary of State for Nonproliferation, Department of State.

[FR Doc. 03-23957 Filed 9-18-03; 8:45 am]

BILLING CODE 4710-25-P